DEPARTMENT OF TRANSPORTATION

Pipeline and Hazardous Materials Safety Administration

[Docket No. PHMSA-2014-0003; PDA-37(R)]

Hazardous Materials: New York City Permit Requirements for Transportation of Certain Hazardous Materials

AGENCY: Pipeline and Hazardous Materials Safety Administration (PHMSA), DOT.

ACTION: Notice, and request for comments.

SUMMARY: PHMSA is reopening the period for comments on the American Trucking Associations, Inc.'s (ATA) application for a preemption determination concerning the requirements of the New York City Fire Department for a permit to transport certain hazardous materials by motor vehicles through New York City, or for transshipment from New York City, and the fee for the permit.

DATES: Interested persons are invited to submit comments on, or before November 2, 2015, and these comments will be considered before an administrative determination is issued by PHMSA's Chief Counsel.

ADDRESSES: All documents in this proceeding, including the comments submitted by the New York City Fire Department (FDNY), may be reviewed in the Docket Operations Facility (M-30), U.S. Department of Transportation, West Building Ground Floor, Room W12-140, 1200 New Jersey Avenue SE., Washington, DC 20590. All documents in this proceeding are also available on the U.S. Government Regulations.gov Web site: http://www.regulations.gov. Comments must refer to Docket No. PHMSA-2014-0003 and may be submitted to the docket in writing or electronically. Mail or hand deliver three copies of each written comment to the above address. If you wish to receive confirmation of receipt of your comments, include a self-addressed, stamped postcard. To submit comments electronically, log onto the U.S. Government Regulations.gov Web site: http://www.regulations.gov. Use the Search Documents section of the home page and follow the instructions for submitting comments. Anyone is able to search the electronic form of all comments received into any of our dockets by the name of the individual submitting the comment (or signing the comment, if submitted on behalf of an association, business, labor union, etc.). You may review DOT's complete Privacy Act Statement in the Federal Register published on April 11, 2000 (70 FR 19477-78), or you may visit http://www.dot.gov.

FOR FURTHER INFORMATION CONTACT: Vincent Lopez, Office of Chief Counsel, Pipeline and Hazardous Materials Safety Administration, U.S. Department of Transportation, 1200 New Jersey Avenue SE., Washington, DC 20590; Telephone No. 202-366-4400; Facsimile No. 202-366-7041.

SUPPLEMENTARY INFORMATION: ATA applied for an administrative determination concerning whether Federal hazardous material transportation law, 49 U.S.C. 5101 et seq., preempts requirements of the New York City Fire Department for a permit to transport certain hazardous materials by motor vehicle through New York City, or for transshipment from New York City, and the fee for the permit. PHMSA published notice of ATA's application in the Federal Register on April 17, 2014. 79 FR 21838. On June 2, 2014, the comment period closed without any interested parties submitting comments. On April 27, 2015, we published a notice of delay in processing ATA's application in order to conduct additional fact-finding and legal analysis in response to the application. 80 FR 23328. In order to ensure PHMSA has all of the relevant information before making a determination, we sent a letter to the FDNY and requested that it submit comments as to whether Federal hazardous material transportation law preempts the New York City requirements that are the subject of this proceeding. On August 20, 2015, the FDNY submitted its comments on ATA's application. Therefore, we are reopening the comment period in this proceeding to provide interested parties the opportunity to address any of the issues raised by the FDNY in its comments.

Issued in Washington, DC, on September 25, 2015.
Joseph Solomey,
Senior Assistant Chief Counsel.

[FR Doc. 2015-24880 Filed 9-30-15; 8:45 am]

BILLING CODE 4910-60-P